ENVIRONMENTAL PROTECTION AGENCY

[FRL-8544-4]

Science Advisory Board Staff Office; Notification of a Meeting of the Integrated Nitrogen Committee

AGENCY: Environmental Protection Agency (EPA).

ACTION: Notice.

SUMMARY: The EPA Science Advisory Board (SAB) Staff Office announces a public meeting of its Integrated Nitrogen Committee.

DATES: The meeting dates are Wednesday, April 9, 2008, from 9 a.m. to 5:30 p.m. through Friday, April 11, 2008, from 9 a.m. to 3 p.m. (Eastern Time).

ADDRESSES: The meeting will be held at the Latham Hotel Georgetown, 3000 M Street, NW., Washington, DC 20007; telephone (202) 625-1881.

FOR FURTHER INFORMATION CONTACT: Members of the public who wish to obtain further information about this meeting may contact Ms. Kathleen White, Designated Federal Officer (DFO), by mail at EPA SAB Staff Office, (1400F), U.S. EPA, 1200 Pennsylvania Avenue, NW., Washington, DC 20460; by telephone at: (202) 343-9878; by fax at (202) 233-0643; or by e-mail at: white.kathleen@epa.gov. General information about the SAB, as well as any updates concerning the meeting announced in this notice, may be found on the SAB Web site at: http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: The SAB Integrated Nitrogen Committee is studying the need for integrated research and strategies to reduce reactive nitrogen in the environment. At the global scale, reactive nitrogen from human activities now exceeds that produced by natural terrestrial ecosystems. Reactive nitrogen both benefits and impacts the health and welfare of people and ecosystems. Scientific information suggests that reactive nitrogen is accumulating in the environment and that nitrogen cycling through biogeochemical pathways has a variety of consequences. Research suggests that the management of reactive nitrogen should be viewed from a systems perspective and integrated across environmental media. Accordingly, linkages between reactive nitrogen induced environmental and human health effects need to be understood to optimize reactive nitrogen research and risk management strategies. Information on the Committee's previous meetings was published on January 17, 2007 (72 FR 1989), March 22, 2007 (72 FR 3492), August 14, 2007 (72 FR 4542) and November 20, 2007 (72 FR 65340) and is also available on the SAB Web site at: http://www.epa.gov/sab.

At the upcoming public meeting, the SAB Integrated Nitrogen Committee will: (1) Hear briefings on programs that affect how reactive nitrogen is managed; (2) develop materials needed to create a draft report; (3) plan additional work and writing, and (4) other committee business.

Availability of Meeting Materials: As they become available, the agenda and materials for this meeting will be posted on the SAB Web site at: http://www.epa.gov/sab.

Procedures for Providing Public Input: Interested members of the public may submit relevant written or oral information for the SAB to consider on the topics included in this advisory activity and/or the group conducting the activity. Oral Statements: In general, individuals or groups requesting an oral presentation at a public meeting will be limited to five minutes per speaker, with no more than one hour for all speakers. Interested parties should contact Ms. White, DFO, at the contact information provided above, by April 2, 2008, to be placed on the public speaker list for the April 9-11, 2008 meeting. Written Statements: Written statements should be received in the SAB Staff Office by April 2, 2008, so that the information may be made available to the SAB for their consideration prior to this meeting. Written statements should be supplied to the DFO in electronic format via e-mail at the contact information provided above (acceptable file format: Adobe Acrobat PDF, WordPerfect, MS Word, MS PowerPoint, or Rich Text files in IBM-PC/Windows 98/2000/XP format).

Accessibility: For information on access or services for individuals with disabilities, please contact Ms. Kathleen White at (202) 343-9878, or via e-mail at: white.kathleen@epa.gov. To request accommodation of a disability, please contact Ms. White, preferably at least 10 days prior to the meeting, to give EPA as much time as possible to process your request.

Dated: March 13, 2008.
Anthony Maciorowski,
Deputy Director, EPA Science Advisory Board Staff Office.

[FR Doc. E8-5605 Filed 3-18-08; 8:45 am]

BILLING CODE 6560-50-P